DEPARTMENT OF JUSTICE

Notice of Lodging of Consent Decree Under the Comprehensive Environmental Response, Compensation and Liability Act

Notice is hereby given that on July 27, 2012, a proposed Amendment to Consent Decree was lodged with the United States District Court for the Northern District of Ohio in United States v. Lorain County Metropolitan Park District, et al., Civil Action No. 1:08-cv-03026.

Under a consent decree previously entered by the district court in this action under Sections 106 and 107 of the Comprehensive Environmental Response, Compensation and Liability Act, as amended (“CERCLA”), 42 U.S.C. 9606 and 9607, the former General Motors Corporation, now known as Motors Liquidation Company (“GM”), was one of several Settling Defendants responsible for implementing a remedial action to address releases and threatened releases of hazardous substances at and from the Ford Road Industrial Landfill Site (the “Site”) in Elyria, Ohio. Pursuant to financial assurance requirements of the consent decree, GM obtained a performance bond from Westchester Fire Insurance Company (“Westchester”). After filing for bankruptcy in 2009, GM stopped participating in implementation of the remedial action at the Site.

Under the proposed Amendment to Consent Decree, Westchester will become a party to the consent decree and become responsible for financing implementation of the remedial action at the Site, up to a $589,322 limit that corresponds to the outstanding amount of the original performance bond issued by Westchester. Westchester's obligations will include: (1) Reimbursing 50 percent of the response costs incurred by the other Settling Defendants between June 1, 2009, when GM stopped participating in implementation of the consent decree, and the effective date of the Amendment to Consent Decree; (2) monthly reimbursement of 50 percent of the ongoing remedial costs incurred by the other Settling Defendants after the effective date of the Amendment to Consent Decree; (3) acceleration of remaining payments (up to the $589,322 limit) in accordance with instructions to be provided by EPA, in the event that EPA takes over implementation of any Work, pursuant to provisions of the previously entered consent decree. In addition, to guarantee performance of its obligations under the proposed Amendment to Consent Decree, Westchester will establish a trust for the benefit of EPA, and maintain a trust balance that is equal to its outstanding liability relating to the Site.

The Department of Justice will receive comments relating to the Amendment to Consent Decree for a period of thirty (30) days from the date of this publication. Comments should be addressed to the Assistant Attorney General, Environment and Natural Resources Division, and either emailed to pubcomment-ees.enrd@usdoj.gov or mailed to P.O. Box 7611, U.S. Department of Justice, Washington, DC 20044-7611. The comments should refer to United States v. Lorain County Metropolitan Park District, et. al., DJ # 90-11-3-09102.

During the public comment period, the Amendment to Consent Decree may be examined on the following Department of Justice Web site, http://www.usdoj.gov/enrd/Consent_Decrees.html. A copy of the Amendment to Consent Decree may also be obtained by mail from the Consent Decree Library, U.S. Department of Justice, P.O. Box 7611, Washington, DC 20044-7611 or by faxing or emailing a request to “Consent Decree Copy” (EESCDCopy.ENRD@usdoj.gov), fax number (202) 514-0097, phone confirmation number (202) 514-5271. In requesting a copy of the Amendment to Consent Decree from the Consent Decree Library, please enclose a check in the amount of $8.75 (25 cents per page reproduction cost) payable to the U.S. Treasury or, if by email or fax, forward a check in that amount to the Consent Decree Library at the stated address.

Maureen Katz,
Assistant Section Chief, Environmental Enforcement Section, Environment and Natural Resources Division.

[FR Doc. 2012-18837 Filed 8-1-12; 8:45 am]

BILLING CODE 4410-15-P